FEDERAL COMMUNICATIONS COMMISSION

Notice of Public Information Collection Requirement Submitted to the Office of Management and Budget (OMB) for Emergency Review and Approval, Comments Requested

October 29, 2010.

SUMMARY: The Federal Communications Commission, as part of its continuing effort to reduce paperwork burden, invites the general public and other Federal agencies to take this opportunity to comment on the following information collection, as required by the Paperwork Reduction Act (PRA) of 1995, 44 U.S.C. 3501-3520. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology; and (e) ways to further reduce the information collection burden for small business concerns with fewer than 25 employees. The FCC may not conduct or sponsor a collection of information unless it displays a currently valid control number. No person shall be subject to any penalty for failing to comply with a collection of information subject to the Paperwork Reduction Act (PRA) that does not display a valid control number.

DATES: Written Paperwork Reductions (PRA) comments on this information collection should be submitted on or before November 22, 2010. If you anticipate that you will be submitting PRA comments, but find it difficult to do so within the period of time allowed by this notice, you should advise the contacts listed below as soon as possible.

ADDRESSES: Direct all PRA comments to Nicholas A. Fraser, Office of Management and Budget, via e-mail at Nicholas_A._Fraser@omb.eop.gov or via fax at (202) 395-5167 and to the Federal Communications Commission via e-mail to PRA@fcc.gov and Cathy.Williams@fcc.gov.

FOR FURTHER INFORMATION CONTACT: For additional information about the information collection, contact Cathy Williams, Federal Communications Commission via e-mail at Cathy.Williams@fcc.gov or by telephone at (202) 418-2918.

To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: The Commission is requesting emergency OMB processing of the information collection requirement(s) contained in this notice and has requested OMB approval 17 days after the collection is received at OMB.

OMB Control Number: 3060-XXXX.

Title: Consumer survey.

Form Number: Not applicable.

Type of Review: New Collection.

Respondents: Individuals or households.

Number of Respondents/Responses: 5,000 respondents, 5,000 responses.

Estimated Time per Response: .25 hours (15 minutes).

Frequency of Response: One-time reporting requirement.

Total Annual Burden: 1,250 hours.

Nature of Response: Voluntary. The statutory authority for this collection of information is contained in Section 202(h) of the Telecommunications Act of 1996.

Nature and Extent of Confidentiality: There is no need for confidentiality with this information collection.

Privacy Act Impact Assessment: No personally identifying information will be transmitted to the Commission from the survey contractor as a matter of vendor policy.

Needs and Uses: The Commission is requesting emergency processing under 5 CFR 1320.13 so this information can be available for use to prepare one of the Commission's media ownership studies, Consumer Valuation of Media as a Function of Local Market Structure. This information collection is critical to the development and completion of the media ownership rules proceeding required pursuant to Section 202(h) of the Telecommunications Act of 1996. Specifically, the Commission is required to review its media ownership rules quadrennially to determine whether its rules “are necessary in the public interest as the result of competition.” The Commission is then required to repeal or modify any regulation it determines no longer to serve the public interest. With the Notice of Inquiry (NOI) released on May 25, 2010, the Commission launched its fifth proceeding pursuant to the statutory mandate requiring that the media ownership rules be reviewed. Subsequently, in June 2010, the Commission's Media Bureau sought Requests for Quotation (RFQ) for nine studies to be incorporated as part of the 2010 Quadrennial Review. The survey that is the subject of this review, the Consumer Survey, was included in the RFQ and a bid was selected on September 30, 2010. The consumer survey will be used in a determination to define a performance metric related to the public interest goals the Commission seeks to promote through its media ownership rules. The Consumer Survey will be used to examine the impact of local media market structure on consumer satisfaction with available broadcast radio and television service. The Consumer Survey will collect information regarding how much time people spend with various media and how people get news and information. The Survey will ask respondents to rate, on a numerical scale, their current satisfaction with the overall local media environment and with components such as broadcast television, broadcast radio, and newspapers. The Survey will also include questions asking respondents to rate their current satisfaction with the local news, local public affairs, and other locally oriented media content. This survey will be distributed via the Internet to a nationwide sample of consumers, and the Commission anticipates approximately 5,000 responses to the survey. Based on the results of the survey, the contractor will conduct a study to examine the impact of local media market structure on consumer satisfaction with available broadcast radio and television service. This collection of data and resulting survey will enable the Commission to adequately review the media ownership rules and determine whether the rules are necessary in the public interest as a result of competition, as required by Congress.

Marlene H. Dortch,
Secretary, Federal Communications Commission.

[FR Doc. 2010-28123 Filed 11-4-10; 8:45 am]

BILLING CODE 6712-01-P